DEPARTMENT OF COMMERCE

International Trade Administration

[A-549-841]

Mattresses From Thailand: Preliminary Results, Preliminary Intent To Rescind, in Part, and Partial Rescission of Antidumping Duty Administrative Review; 2020-2022

AGENCY: Enforcement and Compliance, International Trade Administration, U.S. Department of Commerce.

SUMMARY: The U.S. Department of Commerce (Commerce) preliminarily finds that Saffron Living Co., Ltd. (Saffron), did not make a bona fide sale of a mattress from Thailand during the period of review (POR) November 3, 2020, through April 30, 2022. Therefore, Commerce intends to rescind this administrative review with respect to Saffron. Additionally, we are rescinding this review with respect to Nisco (Thailand) Co., Ltd. (Nisco) because it timely withdrew its administrative review request, and no other party requested a review of the company. We invite interested parties to comment on these preliminary results.

DATES: Applicable June 6, 2023.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

On May 14, 2021, Commerce published in the Federal Register the antidumping duty (AD) order on mattresses from Thailand.¹ On May 2, 2022, Commerce published a notice of opportunity to request an administrative review of the Order for the POR.² On May 31, 2022, Nisco and Saffron each requested an administrative review of their entries.³ On July 14, 2022, based on these timely requests for administrative review, Commerce initiated this administrative review with respect to Nisco and Saffron.⁴ On September 8, 2022, Nisco timely withdrew its request for administrative review.⁵

¹ See Mattresses from Cambodia, Indonesia, Malaysia, Serbia, Thailand, the Republic of Turkey, and the Socialist Republic of Vietnam: Antidumping Duty Orders and Amended Final Affirmative Antidumping Determination for Cambodia, 86 FR 26460 (May 14, 2021) (Order).

² See Antidumping or Countervailing Duty Order, Finding, or Suspended Investigation; Opportunity To Request Administrative Review and Join Annual Inquiry Service List, 87 FR 25619 (May 2, 2022).

³ See Nisco's Letter, “Request for Administrative Review,” dated May 31, 2022; see also Saffron's Letter, “Request for Administrative Review,” dated May 31, 2022.

⁴ See Initiation of Antidumping and Countervailing Duty Administrative Reviews, 87 FR 42144 (July 14, 2022).

⁵ See Nisco's Letter, “Withdrawal of Request for Administrative Review,” dated September 8, 2022.

On December 15, 2022, Commerce extended these preliminary results by 120 days to no later than May 31, 2023.⁶ For a more complete description of the events between the initiation of this review and these preliminary results, see the Preliminary Decision Memorandum.⁷

⁶ See Memorandum, “Extension of Deadline for Preliminary Results of the 2020-2022 Antidumping Duty Administrative Review,” dated December 15, 2022.

⁷ See Memorandum, “Decision Memorandum for the Preliminary Results, Preliminary Intent to Rescind, in Part, and Partial Rescission of Antidumping Duty Administrative Review; 2020-2022: Mattresses from Thailand,” dated concurrently with, and hereby adopted by, this notice (Preliminary Decision Memorandum).

Scope of the Order

The products covered by the Order are mattresses from Thailand. For a full description of the scope of the Order, see the Preliminary Decision Memorandum.⁸

⁸ See Preliminary Decision Memorandum at “Scope of the Order.”

Partial Rescission

Pursuant to 19 CFR 351.213(d)(1), Commerce will rescind an administrative review, in whole, or in part, if the party that requested a review withdraws the request within 90 days of the date of publication of the notice of initiation. As noted above, Nisco timely withdrew its review request with respect to itself. Because no other party has requested a review of Nisco, we are rescinding this review, in part, with respect to Nisco, pursuant to 19 CFR 351.213(d)(1).

Intent To Rescind, in Part

As discussed in the Preliminary Decision Memorandum and as further explained in the Bona Fide Sales Memorandum, Commerce preliminary finds that Saffron did not make a bona fide sale of a mattress during the POR.⁹ Commerce reached this conclusion based on the totality of the record information surrounding Saffron's reported sales, including, but not limited to, the sales price, the expenses incurred arising from the transaction, profitability of the resold subject merchandise, and the likelihood that the sale is atypical due to the business nature of the U.S. customer.

⁹ See Memorandum, “Preliminary Bona Fide Sales Analysis,” dated concurrently with this notice (Bona Fide Sales Memorandum).

Because we find that Saffron did not make a bona fide sale during the POR, we find that Saffron had no reviewable transactions during this POR. Accordingly, we preliminarily intend to rescind this administrative review.¹⁰ The factual information used in our bona fide sales analysis of Saffron's sales involves business proprietary information. See the Bona Fide Sales Memorandum for a full discussion of the basis of our preliminary findings.

¹⁰ See 19 CFR 351.213(d)(3).

Methodology

Commerce is conducting this review in accordance with section 751(a)(1)(B) of the Tariff Act of 1930, as amended (the Act). A list of topics discussed in the Preliminary Decision Memorandum is attached as the appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Public Comment

Interested parties may submit case briefs no later than 30 days after the date of publication of this notice.¹¹ Rebuttal briefs, limited to issues raised in the case briefs, may be filed not later than seven days after the date for filing case briefs.¹² Commerce modified certain of its requirements for serving documents containing business proprietary information until further notice.¹³ Parties who submit case or rebuttal briefs in this proceeding are encouraged to submit with each argument: (1) a statement of the issue; (2) a brief summary of the argument; and (3) a table of authorities.¹⁴

¹¹ See 19 CFR 351.309(c)(1)(ii); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

¹² See 19 CFR 351.309(d); see also 19 CFR 351.303 (for general filing requirements).

¹³ See Temporary Rule Modifying AD/CVD Service Requirements Due to COVID-19; Extension of Effective Period, 85 FR 41363 (July 10, 2020).

¹⁴ See 19 CFR 351.309(c)(2) and (d)(2).

Pursuant to 19 CFR 351.310(c), interested parties who wish to request a hearing, limited to issues raised in the case and rebuttal briefs, must submit a written request to the Assistant Secretary for Enforcement and Compliance, U.S. Department of Commerce, within 30 days after the publication of this notice. Requests should contain the party's name, address, telephone number, the number of participants, whether any participant is a foreign national, and a list of the issues to be discussed. If a request for a hearing is made, Commerce intends to hold the hearing at a time and date to be determined. Parties should confirm by telephone the date, time, and location of the hearing two days before the scheduled date.

Unless extended, Commerce intends to issue the final results of this administrative review, including the results of its analysis of the issues raised in any written briefs, no later than 120 days after the date of publication of this notice, pursuant to section 751(a)(3)(A) of the Act and 19 CFR 351.213(h)(1).

Verification

On October 24, 2022, Commerce received a timely request from Brooklyn Bedding; Elite Comfort Solutions; FXI, Inc.; Kolcraft Enterprises, Inc.; Leggett & Platt, Incorporated; the International Brotherhood of Teamsters, and United Steel, Paper and Forestry, Rubber, Manufacturing, Energy, Allied Industrial and Service Workers International Union, AFL-CIO (USW) (collectively, the petitioners) to verify the information submitted by Saffron in the course of this administrative review, pursuant to section 782(i)(3). Because we intend to rescind this administrative review with respect to Saffron, we are not conducting a verification.

Assessment Rates

If Commerce proceeds to a final rescission of this administrative review, the assessment rate of 37.48 to which Saffron's shipments are subject will not be affected by this review.¹⁵ If Commerce does not proceed to a final rescission of this administrative review with respect to Saffron, pursuant to 19 CFR 351.212(b)(1), we will calculate importer-specific (or customer-specific) assessment rates based on the final results of this review.

¹⁵ See Mattresses from Thailand: Final Affirmative Determination of Sales at Less Than Fair Value, 86 FR 15928, 15929 (March 25, 2021).

Because Commerce is rescinding this administrative review with respect to Nisco, Nisco's entries will be liquidated at its company-specific rate of 763.28.¹⁶

¹⁶ Id.

Cash Deposit Requirements

If Commerce proceeds to a final rescission of this administrative review, Saffron's cash deposit rate will continue to be its company-specific rate of 37.48.¹⁷ If Commerce issues final results for this administrative review, Commerce will instruct U.S. Customs and Border Protection to collect cash deposits, effective upon the publication of the final results, as the rates established therein.

¹⁷ Id.

Because Commerce is rescinding this administrative review with respect to Nisco, Nisco's entries continue to be subject to its company-specific rate of 763.28.¹⁸

¹⁸ Id.

These cash deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h)(2) and 351.221(b)(4).

Dated: May 31, 2023.
Lisa W. Wang,
Assistant Secretary for Enforcement and Compliance.

Appendix

List of Topics Discussed in the Preliminary Decision Memorandum

I. Summary

II. Background

III. Scope of the Order

IV. Partial Rescission of Administrative Review

V. Discussion of Methodology

VI. Recommendation

[FR Doc. 2023-12049 Filed 6-5-23; 8:45 am]

BILLING CODE 3510-DS-P